DEPARTMENT OF ENERGY

Notice of Request for Information (RFI) on Identifying Priorities for Reducing Barriers to Deployment of Hydrogen Infrastructure

AGENCY: Office of Energy Efficiency and Renewable Energy, Department of Energy (DOE).

ACTION: Request for information (RFI).

SUMMARY: The U.S. Department of Energy (DOE) published a Request for Information (RFI) on Identifying Priorities for Reducing Barriers to Deployment of Hydrogen Infrastructure on EERE Exchange to gather information on priority areas for reducing barriers to deployment of hydrogen technologies, with a particular focus on hydrogen infrastructure.

DATES: Responses to the RFI must be received no later than 5:00 p.m. (ET) on August 10, 2018.

ADDRESSES: Interested parties are to submit comments electronically to FY18FCTOBARRIERSRFI@EE.DOE.GOV. Responses must be provided as attachments to an email. Include “Deployment Barriers RFI” as the subject of the email. It is recommended that attachments with file sizes exceeding 25MB be compressed (i.e., zipped) to ensure message delivery. Responses must be provided as a Microsoft Word (.docx) attachment to the email, and 12 point font, 1 inch margins. Only electronic responses will be accepted. The complete RFI document is located at https://eere-exchange.energy.gov/.

FOR FURTHER INFORMATION CONTACT: Questions may be addressed to FY18FCTOBARRIERSRFI@EE.DOE.GOV. Further instruction can be found in the RFI document posted on EERE Exchange.

SUPPLEMENTARY INFORMATION: DOE posted on its website an RFI to solicit feedback from industry, academia, research laboratories, government agencies, and other stakeholders on critical barriers to deployment of hydrogen infrastructure. The goal of the RFI is to identify these barriers and potential courses-of-action to address them to reduce deployment time and cost in implementing hydrogen technologies and to support the implementation of large-scale applications. Deployment of hydrogen station regulatory compliance costs and time for regulatory processing have been shown to be substantial. Courses-of-action may include areas such as: Identifying gaps in existing regulations, codes and standards; streamlining regulatory, permitting, and certification processes; reducing unneeded compliance actions; or consolidating regulatory requirements. The RFI [DE-FOA-0001948] is available at: https://eere-exchange.energy.gov/.

Confidential Business Information

Because information received in response to this RFI may be used to structure future programs, funding and/or otherwise be made available to the public, respondents are strongly advised to not include any information in their responses that might be considered business sensitive, proprietary, or otherwise confidential. If, however, a respondent chooses to submit business sensitive, proprietary, or otherwise confidential information, it must be clearly and conspicuously marked as such in the response as detailed in the RFI [DE-FOA-0001948] at: https://eere-exchange.energy.gov/.

Issued in Washington, DC, on June 7, 2018.
Sunita Satyapal,
Director, Fuel Cell Technologies Office.

[FR Doc. 2018-12699 Filed 6-12-18; 8:45 am]

BILLING CODE 6450-01-P